COMMODITY FUTURES TRADING COMMISSION

Sunshine Act Meetings

Time and Date: 11 a.m., Friday, October 31, 2003.

Place: 1155 21st St., NW., Washington, DC, Room 1012.

Status: Closed.

Matters To Be Considered: Surveillance matters.

Contact Person for More Information: Jean A. Webb, 202-418-5100.

Jean A. Webb,
Secretary of the Commission.

[FR Doc. 03-24319 Filed 9-22-03; 3:58 pm]

BILLING CODE 6351-01-M